DEPARTMENT OF ENERGY

Federal Energy Regulatory Commission

[Docket No. RP01-259-000]

ANR Pipeline Co.; Notice Shortening Comment Period

January 3, 2002.

On December 26, 2001, ANR Pipeline Company (ANR) filed an Offer of Settlement (Settlement) in the above-docketed proceeding. ANR's Settlement also included a request for a shortened comment period. The Settlement transmittal states that the request for a shortened comment period is supported by the only active participants to this proceeding.

Upon consideration, notice is hereby given that the time for filing initial comments on ANR's Settlement is hereby shortened to and including January 8, 2002. Reply comments shall be filed on or before January 15, 2002.

Linwood A. Watson, Jr.,
Acting Secretary.

[FR Doc. 02-572 Filed 1-9-02; 8:45 am]

BILLING CODE 6717-01-P